DEPARTMENT OF HEALTH AND HUMAN SERVICES

Centers for Disease Control and Prevention

[60Day-07-07AL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Successful Business Strategies to Prevent Heart Disease and Stroke Toolkit—NEW—Division for Heart Disease and Stroke Prevention (DHDSP), National Center for Chronic Disease Prevention and Health Promotion (NCCDPHP), Centers for Disease Control and Prevention (CDC).

Background and Brief Description

Under Part C (Centers for Disease Control and Prevention) of the Statement of Organization Functions, and Delegations of Authority of the Department of Health and Human Services (45 FR 67772-76, dated October 14, 1980, and corrected at 45 FR 69296, October 20, 1980, as amended most recently at 70 FR 72842-72843, dated December 7, 2005), the Division for Heart Disease and Stroke Prevention, National Center for Chronic Disease Prevention and Health Promotion, Centers for Disease Control and Prevention was established. This Division plans, directs, and coordinates programs to reduce morbidity, risk factors, costs, disability, mortality, and disparities associated with heart disease, stroke, and other cardiovascular disease outcomes. Under this Division, formative research was conducted to identify effective interventions and promising practices for preventing heart disease and stroke at the work site. In 2005, this research resulted in the development of a Successful Business Strategies to Prevent Heart Disease and Stroke Toolkit. The toolkit provides state programs with suggestions about which health benefits, services, and interventions can improve employee cardiovascular health, prevent heart disease and stroke, and reduce related costs. The second phase of this project focuses on disseminating and evaluating the Successful Business Strategies to Prevent Heart Disease and Stroke Toolkit.

As part of the Toolkit evaluation, the CDC has employed contractor support to design and conduct a Web-based survey of State Health Departments to gather information on their experiences with the Toolkit. The contractor will collect and analyze all data from this survey. The CDC has also contracted to make revisions to the Toolkit based on results of this survey, ongoing feedback from the States, and feedback from employers through interviews.

There are no costs to respondents except their time to complete the survey.

Estimated Annualized Burden Hours
Form | Respondents | Number of respondents | Number of responses per respondent | Average burden per response (in hrs.) | Total burden (in hours)
Web-based survey on CVH Toolkit | State Heart Disease and Stroke Programs | 51 | 1 | 0.5 | 25.5

Dated: January 25, 2007.
Joan F. Karr,
Acting Reports Clearance Officer, Centers for Disease Control and Prevention.

[FR Doc. E7-1489 Filed 1-30-07; 8:45 am]

BILLING CODE 4163-18-P